DEPARTMENT OF HEALTH AND HUMAN SERVICES

Administration for Children and Families

Federal Allotments to State Developmental Disabilities Councils and Protection and Advocacy Formula Grant Programs for Fiscal Year 2006

AGENCY: Administration on Developmental Disabilities (ADD), Administration for Children and Families, Department of Health and Human Services.

ACTION: Notification of Fiscal Year 2006 Federal Allotments to State Developmental Disabilities Councils and Protection and Advocacy Formula Grant programs.

SUMMARY: This notice sets forth Fiscal Year (FY) 2006 individual allotments and percentages of the total appropriation to States administering the State Developmental Disabilities Councils and Protection and Advocacy programs, pursuant to Section 122 and Section 142 of the Developmental Disabilities Assistance and Bill of Rights Act (Act). The allotment amounts are based on the FY 2006 President's Budget request and are contingent on congressional appropriations for FY 2006. If the Congress enacts a different appropriation amount in FY 2006, these allotments will be adjusted accordingly. The State allotments are available on the ADD homepage on the Internet: http://www.acf.hhs.gov/programs/add/.

EFFECTIVE DATE: October 1, 2005.

FOR FURTHER INFORMATION CONTACT: Catherine Wade, Grants Financial Management Specialist, Office of Grants Management, Office of Administration, Administration for Children and Families, telephone (202) 401-5798.

SUPPLEMENTARY INFORMATION: Section 122(a)(2) of the Act requires that adjustments in the amounts of State allotments shall be made not more often than annually and that States must be notified no less than six (6) months before the beginning of the fiscal year in which such adjustment is to take effect. The Catalog of Federal Domestic Assistance (CFDA) number is 93.630. In relation to the State Developmental Disabilities Council allotments, the descriptions of service needs were reviewed in the State plans and are consistent with the results obtained from the data elements and projected formula amounts for each State (Section 122(a)(5)).

The Administration on Developmental Disabilities has updated the following data elements for issuance of Fiscal Year 2006 allotments for both of the Developmental Disabilities formula grant programs.

A. The number of beneficiaries in each State and Territory under the Childhood Disabilities Beneficiary Program are from Table 5.J10 of the “Annual Statistical Supplement, 2003, to the Social Security Bulletin” issued by the Social Security Administration;

B. State data on Average Per Capita Income are from Table B—Per Capita Personal Income, 2001-2003 of the “Survey of Current Business,” September, 2004, issued by the Bureau of Economic Analysis, U.S. Department of Commerce. The most recent comparable data for the Territories were obtained from the Department of Commerce September 2004; and

C. State data on Total Population is based on “State Population Estimates: July 1, 2004” issued December 2004 by the U.S. Census Bureau. The State working population (ages 18-64) is based on the “Estimate of Resident Population of the U.S. by Selected Age Groups and Sex, July 1, 2003” issued September 2004 by the U.S. Census Bureau. Total population estimates for the Territories are based on “Global Population Profile: 2002” data issued March 2004 by the U.S. Census Bureau. The Territories working population is based on “Population and Housing Profile: 2000” issued by the U.S. Census Bureau from Census 2000 data.

Table 1.—FY 2006 Allotments; Administration on Developmental Disabilities
| Developmental disabilities councils | Percentage of total appropriation
Total | $72,496,000 | 100.000000
Alabama | 1,303,749 | 1.798374
Alaska | 461,733 | .636908
Arizona | 1,273,254 | 1.756309
Arkansas | 798,009 | 1.100763
California | 6,732,793 | 9.287124
Colorado | 828,370 | 1.142642
Connecticut | 684,377 | .944020
Delaware | 461,733 | .636908
District of Columbia | 461,733 | .636908
Florida | 3,607,497 | 4.976132
Georgia | 1,886,710 | 2.602502
Hawaii | 461,733 | .636908
Idaho | 461,733 | .636908
Illinois | 2,645,112 | 3.648632
Indiana | 1,499,994 | 2.069071
Iowa | 773,202 | 1.066544
Kansas | 615,537 | .849063
Kentucky | 1,214,354 | 1.675063
Louisiana | 1,373,991 | 1.895265
Maine | 461,733 | .636908
Maryland | 1,016,990 | .402822
Massachusetts | 1,355,070 | 1.869165
Michigan | 2,517,456 | 3.472545
Minnesota | 1,031,889 | 1.423374
Mississippi | 940,145 | 1.296823
Missouri | 1,372,365 | 1.893022
Montana | 461,733 | .636908
Nebraska | 461,733 | .636908
Nevada | 461,733 | .636908
New Hampshire | 461,733 | .636908
New Jersey | 1,574,549 | 2.171912
New Mexico | 517,026 | .713179
New York | 4,224,169 | 5.826761
North Carolina | 1,970,887 | 2.718615
North Dakota | 461,733 | .636908
Ohio | 2,864,776 | 3.951633
Oklahoma | 906,308 | 1.250149
Oregon | 778,013 | 1.073181
Pennsylvania | 3,084,849 | 4.255199
Rhode Island | 461,733 | .636908
South Carolina | 1,122,357 | 1.548164
South Dakota | 461,733 | .636908
Tennessee | 1,503,287 | 2.073614
Texas | 4,731,591 | 6.526693
Utah | 597,250 | .823839
Vermont | 461,733 | .636908
Virginia | 1,510,032 | 2.082918
Washington | 1,185,511 | 1.635278
West Virginia | 765,293 | 1.055635
Wisconsin | 1,297,635 | 1.789940
Wyoming | 461,733 | .636908
American Samoa | 240,458 | .331685
Guam | 240,458 | .331685
Northern Mariana Islands | 240,458 | .331685
Puerto Rico | 2,503,776 | 3.453675
Virgin Islands | 240,458 | .331685

Table 2.—FY 2006 Allotments; Administration on Developmental Disabilities
| Protection and advocacy | Percentage of total appropriation
Total | ¹ $37,346,820 | 100.000000
Alabama | 616,974 | 1.652012
Alaska | 365,940 | .979842
Arizona | 593,445 | 1.589011
Arkansas | 379,748 | 1.016815
California | 3,183,331 | 8.523708
Colorado | 408,703 | 1.094345
Connecticut | 376,728 | 1.008728
Delaware | 365,940 | .979842
District of Columbia | 365,940 | .979842
Florida | 1,751,019 | 4.688536
Georgia | 934,345 | 2.501806
Hawaii | 365,940 | .979842
Idaho | 365,940 | .979842
Illinois | 1,281,999 | 3.432686
Indiana | 722,342 | 1.934146
Iowa | 368,535 | .986791
Kansas | 365,940 | .979842
Kentucky | 567,565 | 1.519714
Louisiana | 629,491 | 1.685528
Maine | 365,940 | .979842
Maryland | 478,650 | 1.281635
Massachusetts | 602,505 | 1.613270
Michigan | 1,164,400 | 3.117802
Minnesota | 492,891 | 1.319767
Mississippi | 436,384 | 1.168464
Missouri | 660,742 | 1.769206
Montana | 365,940 | .979842
Nebraska | 365,940 | .979842
Nevada | 365,940 | .979842
New Hampshire | 365,940 | .979842
New Jersey | 749,910 | 2.007962
New Mexico | 365,940 | .979842
New York | 1,931,732 | 5.172414
North Carolina | 984,385 | 2.635793
North Dakota | 365,940 | .979842
Ohio | 1,350,619 | 3.616423
Oklahoma | 420,929 | 1.127081
Oregon | 391,212 | 1.047511
Pennsylvania | 1,417,757 | 3.796192
Rhode Island | 365,940 | .979842
South Carolina | 541,043 | 1.448699
South Dakota | 365,940 | .979842
Tennessee | 718,684 | 1.924351
Texas | 2,243,796 | 6.007997
Utah | 365,940 | .979842
Vermont | 365,940 | .979842
Virginia | 726,148 | 1.944337
Washington | 564,196 | 1.510694
West Virginia | 388,931 | 1.041403
Wisconsin | 611,617 | 1.637668
Wyoming | 365,940 | .979842
American Samoa | 195,775 | .524208
Guam | 195,775 | .524208
Northern Mariana Islands | 195,775 | .524208
Puerto Rico | 1,090,269 | 2.919309
Virgin Islands | 195,775 | .524208
DNA People Legal Services ² | 195,775 | .524208
¹ In accordance with Public Law 106-402, Section 142(a)(6)(A), $762,180 has been withheld to fund technical assistance. The statute provides for spending up to two percent (2%) of the amount appropriated under Section 142 for this purpose. Unused funds will be reallotted in accordance with Section 122(e) of the Act.
² American Indian Consortiums are eligible to receive an allotment under Section 142(a)(6)(B) of the Act.

Dated: March 29, 2005.
Patricia A. Morrissey,
Commissioner, Administration on Developmental Disabilities.

[FR Doc. 05-6483 Filed 3-31-05; 8:45 am]

BILLING CODE 4184-01-P